DEPARTMENT OF THE INTERIOR

National Park Service

[NPS-AKR-GLBA-18595; PPWOBSADA0, PPMPSAS1Y.Y00000 (155)]

Proposed Information Collection; Glacier Bay National Park and Preserve Bear Sighting and Encounter Reports

AGENCY: National Park Service, Interior.

ACTION: Notice; request for comments.

SUMMARY: We (National Park Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: You must submit comments on or before August 25, 2015.

ADDRESSES: Send your comments on the IC to Madonna L. Baucum, Information Collection Clearance Officer, National Park Service, 12201 Sunrise Valley Drive (Room 2C114, Mail Stop 242), Reston, VA 20192 (mail); or madonna_baucum@nps.gov (email). Please include “1024-New GLBA Bear Reports” in the subject line of your comments.

FOR FURTHER INFORMATION CONTACT: To request additional information about this IC, contact Madonna L. Baucum, National Park Service, 12201 Sunrise Valley Drive (Room 2C114, Mail Stop 242), Reston, VA 20192 (mail); or madonna_baucum@nps.gov (email).

SUPPLEMENTARY INFORMATION:

I. Abstract

The National Park Service Act of 1916, 38 Stat 535, 16 U.S.C. 1, et seq., requires that the NPS preserve national parks for the enjoyment, education, and inspiration of this and future generations. Permit requirements and restrictions for recreational activities in the backcountry are governed in accordance with the regulations found at Title 36, Code of Federal Regulations, Sections 1.5, 1.6, and 2.10 (36 CFR 1.5, 1.6, 2.10, and 13.116). In order to monitor resources and wildlife in the Glacier Bay National Park and Preserve (GLBA) and to enhance the safety of future visitors, the park monitors all sightings and interactions by visitors with bears. Bear sighting data provides the park with important data used to determine bear movements, habitat use, and species distribution. First-hand accounts of how bears respond to people are important in understanding and detecting changes in bear behavior and identifying potential problem areas. Observations and interactions by visitors are recorded via the following two forms:

The NPS requires the submission of NPS Form 10-405, “Tatshenshini—Alsek River Bear Report Form 1” upon exiting the park backcountry in order to collect information regarding bear sightings within GLBA. The information collected via NPS Form 10-405 includes:

• Group name;

• Take-out date;

• Detailed information for each sighting documented on the form, to include:

○ Date/time;

○ Species type

○ Total number of bears seen together (for each sighting);

○ Bear unit type;

○ Estimation of distance between visitor and bear(s);

○ Whether the bear was aware of the group;

○ Bear reaction to group;

○ Activity of group;

○ Number of observers; and

○ Location description/campsite name/GPS position/other comments.

Submission of a completed NPS Form 10-406, “Tatshenshini—Alsek River Bear Information Management (BIM) Report Form 2” is required when a bear enters camp, approaches the group, damages gear, obtains food, and/or acts in an aggressive or threatening manner towards the group. The information collected via NPS Form 10-405 includes:

• Name and phone number of the primary person involved in the interaction;

• Group type: Park visitor, concession employee, contractor, researcher, NPS employee, or other;

• Number of people who encountered the bear;

• Corresponding sighting number on NPS Form 10-105; Location 1-28 (Backcountry vs Developed Area A and B);

• Types of vegetation in area of encounter;

• The bear's activity when it was first observed;

• The group's activity prior to seeing the bear;

• The bear's initial and subsequent reaction to the group;

• Group's response to bear's reaction;

• Group's distance to the bear;

• Whether food was present, and if so, if it was eaten by the bear;

• Whether property was damaged;

• Detailed description of the interaction;

• Detailed description of the bear, to include color, markings, scars, tags, etc.;

• Date, time, and duration of encounter;

• Exact location of encounter documented on map provided by GLBA, to include the latitude/longitude; and,

• Where did the individual learn about how to behave while in bear country?

II. Data

OMB Control Number: 1024-New.

Title: Glacier Bay National Park and Preserve Bear Sighting and Encounter Reports.

Service Form Number(s):

NPS Form 10-405, “Tatshenshini—Alsek River Bear Report Form 1,” and

NPS Form 10-406, “Tatshenshini—Alsek River Bear Information Management (BIM) Report Form 2.”

Type of Request: Collection in use without approval.

Description of Respondents: Backcountry and frontcountry visitors to Glacier Bay National Park and Preserve.

Respondent's Obligation: Mandatory.

Frequency of Collection: On occasion.

Activity | Estimated annual number of responses | Estimated completion time per response (minutes) | Estimated total annual burden hours
NPS Form 10-405, “Tatshenshini—Alsek River Bear Report Form 1” | 50 | 5 | 4.5
NPS Form 10-406, “Tatshenshini—Alsek River Bear Information Management (BIM) Report Form 2” | 50 | 5 | 4.5
Totals | 100 |  | 9

Estimated Annual Nonhour Burden Cost: None.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: June 22, 2015.
Madonna L. Baucum,
Information Collection Clearance Officer, National Park Service.

[FR Doc. 2015-15768 Filed 6-25-15; 8:45 am]

BILLING CODE 4310-EH-P